BUREAU OF CONSUMER FINANCIAL PROTECTION

[Docket No. CFPB-2023-0005]

Agency Information Collection Activities: Comment Request

AGENCY: Bureau of Consumer Financial Protection.

ACTION: Notice and request for comment.

SUMMARY: In accordance with the Paperwork Reduction Act of 1995 (PRA), the Consumer Financial Protection Bureau (Bureau or CFPB) is requesting the extension of the Office of Management and Budget's (OMB's) approval for an existing information collection titled “Generic Information Collection Plan for Information on Compliance Costs and Other Effects of Regulations” approved under OMB Control Number 3170-0032.

DATES: Written comments are encouraged and must be received on or before February 10, 2023 to be assured of consideration.

ADDRESSES: Written comments and recommendations for the proposed information collection should be sent within 30 days of publication of this notice to www.reginfo.gov/public/do/PRAMain. Find this particular information collection by selecting “Currently under 30-day Review—Open for Public Comments” or by using the search function. In general, all comments received will become public records, including any personal information provided. Sensitive personal information, such as account numbers or Social Security numbers, should not be included.

FOR FURTHER INFORMATION CONTACT: Requests for additional information should be directed to Anthony May, Paperwork Reduction Act Officer, at (202) 435-7278, or email: CFPB_PRA@cfpb.gov. If you require this document in an alternative electronic format, please contact CFPB_Accessibility@cfpb.gov. Please do not submit comments to these email boxes.

SUPPLEMENTARY INFORMATION:

Title of Collection: Generic Information Collection Plan for Information on Compliance Costs and Other Effects of Regulations.

OMB Control Number: 3170-0032.

Type of Review: Extension without change of a currently approved collection.

Affected Public: Private section: businesses and other for-profit entities.

Estimated Number of Respondents: 75,000.

Estimated Total Annual Burden Hours: 77,994.

Abstract: The Dodd-Frank Wall Street Reform and Consumer Protection Act (Dodd-Frank Act) requires or authorizes the Bureau to implement new consumer protections in the offering or provision of certain consumer financial products and services. This information collection is required in order to effectively incorporate information from providers concerning compliance costs and other effects of regulations as part of the information base for potential rulemakings and prospective and retrospective regulatory burden analyses.

Request for Comments: The Bureau published a 60-day Federal Register notice on October 26, 2022 (87 FR 64755) under Docket Number: CFPB-2022-0071. The Bureau is publishing this notice and soliciting comments on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Anthony May,
Paperwork Reduction Act Officer, Consumer Financial Protection Bureau.

[FR Doc. 2023-00312 Filed 1-10-23; 8:45 am]

BILLING CODE 4810-AM-P